DEPARTMENT OF THE INTERIOR

Bureau of Land Management

[UTU 42912 and UTU 42923]

Public Land Order No. 7707; Revocation of Two Withdrawal Orders for Provo River Reclamation Project; Utah

AGENCY: Bureau of Land Management, Interior.

ACTION: Public Land Order.

SUMMARY: This order revokes a Bureau of Reclamation Order and a Secretarial Order in their entireties as they affect 60 acres of National Forest System lands in Salt Lake and Wasatch Counties withdrawn from surface entry and mining and reserved on behalf of the Bureau of Reclamation for the Provo River Project. The lands are no longer needed for reclamation purposes. This order opens the lands to such forms of disposition as may by law be made of National Forest System lands and to mining.

DATES: Effective Date: July 7, 2008.

FOR FURTHER INFORMATION CONTACT: Rhonda Flynn, Bureau of Land Management Utah State Office, 440 West 200 South, Suite 500, Salt Lake City, Utah 84101-1345, 801-539-4132.

SUPPLEMENTARY INFORMATION: The lands are no longer needed for reclamation purposes and the Bureau of Reclamation has requested revocation of the withdrawals. A copy of the pertinent withdrawal orders containing a complete legal description of the lands involved is available from the Bureau of Land Management Utah State Office at the address above.

Order

By virtue of the authority vested in the Secretary of the Interior by section 204 of the Federal Land Policy and Management Act of 1976, 43 U.S.C. 1714 (2000), it is ordered as follows:

1. The Bureau of Reclamation Order dated August 8, 1947 (12 FR 6095 (1947)), and the Secretarial Order dated January 29, 1937, which originally withdrew approximately 60 acres of lands from surface entry and mining and reserved them on behalf of the Bureau of Reclamation for the Provo River Project, are hereby revoked in their entireties.

2. At 10 a.m. on July 7, 2008, the lands referenced in this order shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: May 15, 2008.
C. Stephen Allred,
Assistant Secretary—Land and Minerals Management.

[FR Doc. E8-12420 Filed 6-3-08; 8:45 am]

BILLING CODE 4310-MN-P